DEPARTMENT OF HEALTH AND HUMAN SERVICES

Administration for Community Living

Agency Information Collection Activities: Submission for OMB Review; Comment Request; OAA Title III-E Evaluation

AGENCY: Administration for Community Living, HHS.

ACTION: Notice.

SUMMARY: The Administration for Community Living is announcing that the proposed collection of information listed below has been submitted to the Office of Management and Budget (OMB) for review and clearance under the Paperwork Reduction Act of 1995.

DATES: Submit written or electronic comments on the collection of information by August 29, 2016.

ADDRESSES: Submit written comments on the collection of information to Susan Jenkins at Susan.Jenkins@ACL.HHS.Gov.

FOR FURTHER INFORMATION CONTACT: Susan Jenkins, 202-795-7369.

SUPPLEMENTARY INFORMATION: In compliance with PRA (44 U.S.C. 3501-3520), the Administration for Community Living (ACL, formerly the Administration for Aging) has submitted the following proposed collection of information to the Office of Management and Budget (OMB) for review and clearance.

The Administration for Community Living/Administration on Aging (ACL/AoA) is requesting approval from the Office of Management and Budget (OMB) for data collection associated with the Process Evaluation and Special Studies Related to the Long-Term Care Ombudsman Program (LTCOP) (Contract #HHSP233201500048I). The goal of the LTCOP is to protect and promote the health, safety, welfare, and rights of long-term care facility residents. Administered by ACL/AoA, LTCOPs operate in all 50 states, the District of Columbia, Puerto Rico, and Guam. The purpose of the process evaluation is to obtain a thorough understanding of the LTCOP's structure and operations at the national, state and local levels; use of resources to carry out legislative mandates; the nature of program partnerships; and processes for sharing information on promising program practices and areas for improvement.

The contractor will interview 12 Federal staff (60 minutes estimated burden) and national stakeholders (45-60 minutes estimated burden) and 53 State ombudsmen (75 minutes estimated burden). All 53 State ombudsmen also will be asked to complete a survey which is estimated to take 20 minutes to complete. ACL/AoA estimates contacting approximately 600 local directors/regional representatives and local representatives to complete the web-based survey. Of this number, we anticipate obtaining responses from 50 percent of the sample (300 respondents). ACL/AoA estimates contacting approximately 2,000 volunteers to complete the web-based survey. Of this number, we anticipate obtaining responses from 20 percent of the sample (400 respondents). The total burden estimate is 19779 minutes, which is 329.25 burden hours.

The proposed data collection tools may be found on the ACL Web site at: http://www.aoa.acl.gov/Program_Results/Program_survey.aspx.

Dated: June 21, 2016.
Kathy Greenlee,
Administrator and Assistant Secretary for Aging.

[FR Doc. 2016-15309 Filed 6-27-16; 8:45 am]

BILLING CODE 4154-01-P